DEPARTMENT OF THE TREASURY

Fiscal Service

Surety Companies Acceptable on Federal Bonds: Name Change—Ranger Insurance Company

AGENCY: Financial Management Service, Fiscal Service, Department of the Treasury.

ACTION: Notice.

SUMMARY: This is Supplement No. 12 to the Treasury Department Circular 570; 2004 Revision, published July 1, 2004, at 69 FR 40224.

FOR FURTHER INFORMATION CONTACT: Surety Bond Branch at (202) 874-6915.

SUPPLEMENTARY INFORMATION: Ranger Insurance company, a Delaware corporation, has formally changed its name to Fairmont Specialty Insurance Company, effective May 5, 2004. The Company was last listed as an acceptable surety on Federal bonds at 69 FR 40253, July 1, 2004.

A Certificate of Authority as an acceptable surety on Federal bonds, dated today, is hereby issued under Sections 9304 to 9308 of Title 31 of the United States Code, to Fairmont Specialty Insurance Company, Wilmington, Delaware. This new Certificate replaces the Certificate of Authority issued to the Company under its former name. The underwriting limitation of $8,404,000 established for the Company as of July 1, 2004, remains unchanged until June 30, 2005.

Certificates of Authority expire on June 30, each year, unless revoked prior to that date.The Certificates are subject to subsequent annual renewal as long as the company remains qualified (31 CFR part 223). At list of qualified companies is published annually as of July 1, in the Department Circular 570, which outlines details as to underwriting limitations, areas in which licensed to transact surety business and other information. Federal bond-approving officers should annotate their reference copies of the Treasury Circular 570, 2004 Revision, at page 40236 to reflect this change.

The Circular may be viewed and downloaded through the Internet at http://www.fms.treas.gov/c570. A hard copy may be purchased from the Government Printing Office (GPO) Subscription Service, Washington, DC telephone (202) 512-1800. When ordering the Circular from GPO, use the following stock number: 769-004-04643-2.

Questions concerning this notice may be directed to the U.S. Department of the Treasury, Financial Management Service, Financial Accounting and Services Division, Surety Bond Branch, 3700 East-West Highway, Room 6F01, Hyattsville, MD 20782.

Dated: June 8, 2005.
Vivian L.Cooper,
Director, Financial Accounting and Services Division, Financial Management Service.

[FR Doc. 05-11701 Filed 6-13-05; 8:45 am]

BILLING CODE 4810-35-M